DEPARTMENT OF DEFENSE

Department of the Navy

Privacy Act of 1974; System of Records

AGENCY: Department of the Navy.

ACTION: Notice to add a system of records.

SUMMARY: The Department of the Navy proposes to add a system of records notice to its inventory of record systems subject to the Privacy Act of 1974 (5 U.S.C. 552a), as amended.

DATES: This action will be effective on April 5, 2004 unless comments are received that would result in a contrary determination.

ADDRESSES: Send comments to the Department of the Navy, PA/FOIA Policy Branch, Chief of Naval Operations (NO9B10), 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The proposed system reports, as required by 5 U.S.C. 552a(r) of the Privacy Act, were submitted on March 1, 2004, to the House Committee on Government Reform, the Senate Committee on Governmental Affairs, and the Office of Management and Budget (OMB) pursuant to paragraph 4c of Appendix I to OMB Circular No. A-130, ‘Federal Agency Responsibilities for Maintaining Records About Individuals,’ dated February 8, 1996, (61 FR 6427, February 20, 1996).

Dated: March 1, 2004.
L.M. Bynum,
Alternate OSD Federal Register Liaison Officer, Department of Defense.

NM01850-3

System name:

Combat-Related Special Compensation Branch Files.

System location:

Combat-Related Special Compensation Branch, 720 Kennon Street SE., Suite 309, Washington Navy Yard, DC 20374-5023.

Categories of individuals covered by the system:

Navy and Marine Corps career retirees who have applied for combat-related special compensation.

Categories of records in the system:

File contains DD Form 2860; and may also contain: medical reports and disability compensation information from the Department of Veterans Affairs; medical reports from civilian medical facilities; medical board reports; statements of findings of physical evaluation boards; military health records; military personnel records; records and reports from the Defense Finance and Accounting Service; retirement records; pay information; requests for reconsideration submitted by the applicant; intra-agency and interagency correspondence concerning the case; correspondence from and to the applicant, members of Congress, attorneys, representatives, and other cognizant persons or parties; decisional documents issued by the Combat-Related Special Compensation Branch; any additional supporting documentation that the applicant submits to the Combat-Related Special Compensation Branch; and/or copies of any of the foregoing documents.

Authority for maintenance of the system:

5 U.S.C. 5013, Secretary of the Navy; 10 U.S.C. 1413a; and E.O. 9397 (SSN).

Purpose(s):

To determine whether Navy and Marine Corps career retirees who have applied for combat-related special compensation are entitled to it by establishing the combat-related circumstance(s), if any, under which the disability was incurred.

To notify the Defense Finance and Accounting Service of the findings in order to effectuate payment of combat-related special compensation.

To respond to official inquiries concerning the applications of particular applicants. The file may also be referred to by the Board for Correction of Naval Records in conjunction with their subsequent review of applications from applicants.

Routine uses of records maintained in the system, including categories of users and the purposes of such uses:

In addition to those disclosures generally permitted under 5 U.S.C. 552(b) of the Privacy Act, these records or information contained therein may specifically be disclosed outside the DoD as a routine use pursuant to 5 U.S.C. 552(b)(3) as follows:

To officials and employees of the Department of Veterans Affairs to request and verify information of service-connected disabilities in order to evaluate applications for combat-related special compensation.

The DoD ‘Blanket Routine Uses’ that appear at the beginning of the Navy's compilation of systems of records notices apply to this system.

Policies and practices for storing, retrieving, accessing, retaining, and disposing of records in the system:

Storage:

Paper records, computerized data base, CD-ROM.

Retrievability:

Name and docket number, and/or Social Security Number.

Safeguards:

Files are maintained in file Suite(s) or other storage devices under the control of authorized personnel during working hours. Computerized system is password protected. Access during working hours is controlled by Naval Council of Personnel Boards personnel and the office space in which the file Suite(s) and storage devices are located is locked after official working hours. The office is located in a building on military installation that has 24-hour gate sentries and 24-hour roving patrols.

Retention and disposal:

Records are retained on-site at the Naval Council of Personnel Boards for one year. After that, they are retired to the Washington National Records Center, 4205 Suitland Road, Suitland, MD 20409 for retention. After a total of 75 years, records are destroyed.

System manager(s) and address:

Director, Naval Council of Personnel Board, Department of the Navy, 720 Kennon Street SE., Suite 309, Washington Navy Yard, DC 20374-5023.

Notification procedure:

Individuals seeking to determine whether information about themselves is contained in this system should address written inquiries to Director, Naval Council of Personnel Boards, Department of the Navy, 720 Kennon Street SE., Suite 309, Washington Navy Yard, DC 20374-5023.

The request should contain the full name of the individual, military grade or rate, docket number, Social Security Number and be signed.

Record access procedures:

Individuals seeking access to information about themselves contained in the system should address written inquiries to the Director, Naval Council of Personnel Boards, Department of the Navy, 720 Kennon Street SE., Suite 309, Washington Navy Yard, DC 20374-5023.

The request should contain the full name of the individual, military grade or rate, docket number, Social Security Number and be signed.

Contesting record procedures:

The Navy's rules for accessing records, and for contesting contents and appealing initial agency determinations are published in Secretary of the Navy Instruction 5211.5; 32 CFR part 701; or may be obtained from the system manager.

Record source categories:

Navy and Marine Corps career retirees who apply for combat-related special compensation; military medical boards and medical facilities; Department of Veterans Affairs and civilian medical providers and facilities; physical evaluation boards and other activities of the disability evaluation system, Naval Council of Personnel Boards, the Bureau of Medicine and Surgery; the Judge Advocate General; Navy and Marine Corps local command activities; the Defense Finance and Accounting Service; other activities of the Department of Defense; and correspondence from members of Congress, attorneys, representatives, and other cognizant persons or parties.

Exemptions claimed for the system:

None.

[FR Doc. 04-4891 Filed 3-4-04; 8:45 am]

BILLING CODE 5001-06-M